DEPARTMENT OF ENERGY

Federal Energy Regulatory Commission

Combined Notice of Filings #2

Take notice that the Commission received the following electric corporate filings:

Docket Numbers: EC14-115-000.

Applicants: Northern States Power Company, a Wisconsin corporation.

Description: Northern States Power Company, a Wisconsin corporation submits Application for Authorization to Acquire Jurisdictional Transmission Assets.

Filed Date: 7/22/14.

Accession Number: 20140723-0002.

Comments Due: 5 p.m. ET 8/12/14.

Docket Numbers: EC14-116-000.

Applicants: American Electric Power Service Corporation, AEP Ohio Transmission Company, Inc.

Description: Application Under Section 203 of the Federal Power Act of American Electric Power Service Corporation on behalf of AEP Ohio Transmission Company, Inc.

Filed Date: 7/25/14.

Accession Number: 20140725-5089.

Comments Due: 5 p.m. ET 8/15/14.

Docket Numbers: EC14-117-000.

Applicants: American Electric Power Service Corporation, AEP Ohio Transmission Company, Inc.

Description: Application Under Section 203 of the Federal Power Act of American Electric Power Service Corporation on behalf of AEP Ohio Transmission Company, Inc.

Filed Date: 7/25/14.

Accession Number: 20140725-5092.

Comments Due: 5 p.m. ET 8/15/14.

Take notice that the Commission received the following electric rate filings:

Docket Numbers: ER11-3108-001.

Applicants: Innovative Energy Systems, LLC.

Description: Compliance Filing for Electric Tariff to be effective 7/25/2014.

Filed Date: 7/25/14.

Accession Number: 20140725-5110.

Comments Due: 5 p.m. ET 8/15/14.

Docket Numbers: ER11-3109-001.

Applicants: Seneca Energy, II LLC.

Description: Compliance Filing for Electric Tariff to be effective 7/25/2014.

Filed Date: 7/25/14.

Accession Number: 20140725-5109.

Comments Due: 5 p.m. ET 8/15/14.

Docket Numbers: ER14-2483-000.

Applicants: Sunbury Generation LP.

Description: Sunbury Generation LP submits notice of cancellation for its cost-based Reactive Supply and Voltage Control from Generation Sources Services tariff.

Filed Date: 7/21/14.

Accession Number: 20140723-0001.

Comments Due: 5 p.m. ET 8/11/14.

Docket Numbers: ER14-2506-000.

Applicants: New York Independent System Operator, Inc., Niagara Mohawk Power Corporation.

Description: Cost Reimbursement Agreement between NiMo and RG&E SA# 2135 to be effective 3/31/2014.

Filed Date: 7/25/14.

Accession Number: 20140725-5071.

Comments Due: 5 p.m. ET 8/15/14.

Docket Numbers: ER14-2507-000.

Applicants: Midcontinent Independent System Operator, Inc.

Description: 2014-07-25_SA 2681 MidAmerican Neal 4 GFA to be effective 7/26/2014.

Filed Date: 7/25/14.

Accession Number: 20140725-5072.

Comments Due: 5 p.m. ET 8/15/14.

Docket Numbers: ER14-2507-000.

Applicants: Midcontinent Independent System Operator, Inc.

Description: 2014-07-25_SA 2681 MidAmerican Neal 4 GFA Supplement to be effective N/A.

Filed Date: 7/25/14.

Accession Number: 20140725-5081.

Comments Due: 5 p.m. ET 8/15/14.

Docket Numbers: ER14-2508-000.

Applicants: PacifiCorp.

Description: Termination of PAC Energy Construction Agreement (Chehalis) to be effective 10/7/2014.

Filed Date: 7/25/14.

Accession Number: 20140725-5077.

Comments Due: 5 p.m. ET 8/15/14.

Docket Numbers: ER14-2509-000.

Applicants: PacifiCorp.

Description: BPA NITSA (Yakama) Rev 6 to be effective 7/14/2014.

Filed Date: 7/25/14.

Accession Number: 20140725-5078.

Comments Due: 5 p.m. ET 8/15/14.

Docket Numbers: ER14-2510-000.

Applicants: PJM Interconnection, L.L.C.

Description: Service Agreement No. 3887; Queue No. W2-014 to be effective 6/25/2014.

Filed Date: 7/25/14.

Accession Number: 20140725-5104.

Comments Due: 5 p.m. ET 8/15/14.

Take notice that the Commission received the following land acquisition reports:

Docket Numbers: LA14-2-000.

Applicants: Blackstone Wind Farm, LLC, Blackstone Wind Farm II LLC, Headwaters Wind Farm LLC, High Trail Wind Farm, LLC, Meadow Lake Wind Farm LLC, Meadow Lake Wind Farm II LLC, Meadow Lake Wind Farm III LLC, Meadow Lake Wind Farm IV LLC, Old Trail Wind Farm, LLC, Paulding Wind Farm II LLC, Sustaining Power Solutions LLC.

Description: Quarterly Land Acquisition Report of Blackstone Wind Farm, LLC, et al.

Filed Date: 7/25/14.

Accession Number: 20140725-5107.

Comments Due: 5 p.m. ET 8/15/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 25, 2014.
Nathaniel J. Davis, Sr.,
Deputy Secretary.

[FR Doc. 2014-18208 Filed 7-31-14; 8:45 am]

BILLING CODE 6717-01-P